FEDERAL RESERVE SYSTEM

Formations of, Acquisitions by, and Mergers of Bank Holding Companies; Correction

This notice corrects a notice (FR Doc. 01-2167) published on page 7652 of the issue for Wednesday, January 24, 2001.

Under the Federal Reserve Bank of Cleveland heading, the entry for F.N.B. Corporation, Hermitage, Pennsylvania, is revised to read as follows:

A. Federal Reserve Bank of Cleveland (Paul Kaboth, Banking Supervision) 1455 East Sixth Street, Cleveland, Ohio 44101-2566:

1. F.N.B. Corporation, Hermitage, Pennsylvania; to merge with Citizens Community Bancorp, Inc., Marco Island, Florida, and thereby indirectly acquire voting shares of Citizens Community Bank of Florida, Marco Island, Florida.

In connection with application, Applicant also has applied to acquire Citizens Financial Corporation, Marco Island, Florida, and thereby engage in loan origination activities, pursuant to § 225.28(b)(1) of Regulation Y, and CCB Mortgage Corporation, Marco Island, Florida, and thereby engage in mortgage brokerage activities, pursuant to § 225.28(b)(1) of Regulation Y. F.N.B. Corporation has secured a stock option to acquire up to 19.9 percent of Citizens Community Bancorp, Inc.

Comments on this application must be received by February 20, 2001.

Board of Governors of the Federal Reserve System, January 24, 2001.
Robert deV. Frierson
Associate Secretary of the Board.

[FR Doc. 01-2500 Filed 1-29-01; 8:45 am]

BILLING CODE 6210-01-S